DEPARTMENT OF THE INTERIOR

Fish and Wildlife Service

[Docket No. FWS-R4-ES-2025-0770; FXES11140400000-256-FF04EF4000]

Receipt of Three Incidental Take Permit Applications for Participation in the General Conservation Plan for the Alabama beach mouse; Categorical Exclusion; Baldwin County, AL

AGENCY: Fish and Wildlife Service, Interior.

ACTION: Notice of availability; request for comments.

SUMMARY: We, the Fish and Wildlife Service (Service), announce receipt of three separate incidental take permit (ITP) applications under the Endangered Species Act (ESA): New Era Development, LLC; Daniel Kruse; and Tamyara Gryner (applicant/applicants), under the approved general conservation plan (GCP) and final environmental impact statement (FEIS) for the Alabama beach mouse (ABM; Peromyscus polionotus ammobates). A GCP is a mechanism that meets the definition of a conservation plan in section 10(a)(1)(B) of the ESA and enables the programmatic permitting and conservation process to address a defined suite of proposed activities over a defined planning area. Each of the applicants request an ITP to take the federally listed ABM incidental to construction in Baldwin County, Alabama. We request public comment on these applications, which include the applicants' proposed habitat conservation plan (HCP) and on the Service's preliminary determination that each of the proposed permitting actions qualifies under the terms of the ABM GCP. We certify that the applications received are statutorily complete and include the necessary information to enroll in the GCP.

DATES: We must receive your written comments on or before October 31, 2025.

ADDRESSES:

Obtaining Documents: The documents this notice announces, as well as any comments and other materials that we receive, will be available for public inspection online in Docket No. FWS-R4-ES-2025-0770 at https://www.regulations.gov.

Submitting Comments: If you wish to submit comments on any of the documents, you may do so in writing by one of the following methods:

• Online: https://www.regulations.gov. Follow the instructions for submitting comments on Docket No. FWS-R4-ES-2025-0770.

• U.S. mail: Public Comments Processing, Attn: Docket No. FWS-R4-ES-2025-0770; U.S. Fish and Wildlife Service, MS: PRB/3W, 5275 Leesburg Pike, Falls Church, VA 22041-3803.

FOR FURTHER INFORMATION CONTACT: William Lynn, by U.S. mail (see ADDRESSES), by telephone at 1-251-538-2065, or via email at william_lynn@fws.gov. Individuals in the United States who are deaf, blind, hard of hearing, or have a speech disability may dial 711 (TTY, TDD, or TeleBraille) to access telecommunications relay services. Individuals outside the United States should use the relay services offered within their country to make international calls to the point-of-contact in the United States.

SUPPLEMENTARY INFORMATION: We, the Fish and Wildlife Service, announce receipt of an application, under the approved GCP for the Alabama beach mouse from New Era Development, LLC.; Daniel Kruze; and Tamyara Gryner for three separate ITPs under the Endangered Species Act, as amended (ESA; 16 U.S.C. 1531 et seq.). Each applicant requests an ITP to take the federally listed AMB. One applicant seeks to take the ABM incidental to the construction, maintenance, and operation of a single-family home with pool, deck, and driveway while the other two applicants would take ABM incidental to the construction of deck additions and maintenance in Baldwin County, Alabama. We request public comment on the applications, the applicants' HCPs, and on the Service's preliminary determination that these proposed ITPs may qualify for a categorical exclusion under the GCP and FEIS for the AMB published on March 28, 2012 (FWS-R4-ES-2012-N063).

Proposed Projects

Permit Number: PER19850861

New Era Development, LLC requests a 50-year ITP to take ABM via the conversion of 0.099 acres (ac) of occupied nesting, foraging, and sheltering ABM habitat incidental to the construction of a single-family home with a pool on a 0.494 ac parcel located off Ponce de Leon Court in Gulf Shores, Alabama. The applicant proposes to mitigate for the take of ABM through an in-lieu fee of $9,890.00 to the Alabama Coastal Heritage Trust's ABM conservation fund.

Permit Number: PER19846026

Daniel Kruse requests a 50-year ITP to take ABM via the conversion of approximately 0.017 ac of occupied nesting, foraging, and sheltering ABM habitat via the addition of two decks to an existing home on a 0.459 ac lot. The parcel is located at 3495 Ponce de Leon Court in Gulf Shores, Alabama. The applicant proposes to mitigate for the take of ABM through an in-lieu fee of $1,738.30 to the Alabama Coastal Heritage Trust's ABM conservation fund.

Permit Number: PER20137093

Tamyara Gryner requests a 50-year ITP to take ABM via the conversion of approximately 0.007 ac of occupied nesting, foraging, and sheltering ABM habitat via the addition of a deck to an existing home on a 0.453 ac lot. The parcel is located at 2476 Ponce de Leon Court in Gulf Shores, Alabama. The applicant proposes to mitigate for the take of ABM through an in-lieu fee of $690.00 to the Alabama Coastal Heritage Trust's ABM conservation fund.

Our Preliminary Determination

The Service has made preliminary determinations that reasonably foreseeable effects of the applicants' proposed projects would have a minor effect on ABM and the human environment. Therefore, we have made a preliminary determination that each of the proposed ESA section 10(a)(1)(B) permits would meet the requirements of the GCP and FEIS.

Next Steps

The Service will evaluate each application and the comments to determine whether to issue the requested ITPs. We will also conduct an intra-Service consultation on each application pursuant to section 7 of the ESA to evaluate the effects of the proposed take. After considering the preceding and other matters, we will determine whether the permit issuance criteria of section 10(a)(1)(B) of the ESA have been met. If met, the Service will issue ITP number PER19850861 to New Era Development, LLC., PER19846026 to Daniel Kruse and PER20137093 to Tamyara Gryner.

Public Availability of Comments

Before including your address, phone number, email address, or other personal identifying information in your comment, be aware that your entire comment, including your personal identifying information, may be made available to the public. If you submit a comment at https://www.regulations.gov, your entire comment, including any personal identifying information, will be posted on the website. If you submit a hardcopy comment that includes personal identifying information, such as your address, phone number, or email address, you may request at the top of your document that we withhold this information from public review. However, we cannot guarantee that we will be able to do so. Moreover, all submissions from organizations or businesses and from individuals identifying themselves as representatives or officials of organizations or businesses will be made available for public disclosure in their entirety.

Authority

The Service provides this notice under section 10(c) of the Endangered Species Act (16 U.S.C. 1531 et seq.) and its implementing regulations (50 CFR 17.32), NEPA (42 U.S.C. 4321 et seq.), and the Department of the Interior's implementing regulations (43 CFR part 46).

William J. Pearson,
Field Supervisor, Alabama Ecological Service Field Office.

[FR Doc. 2025-19170 Filed 9-30-25; 8:45 am]

BILLING CODE 4333-15-P